DEPARTMENT OF COMMERCE

National Oceanic and Atmospheric Administration

50 CFR Part 622

[Docket No. 121004518-3398-01]

RIN 0648-XG974

Reef Fish Fishery of the Gulf of Mexico; 2019 Commercial Accountability Measures; Annual Catch Limit & Annual Catch Target Reductions

AGENCY: National Marine Fisheries Service (NMFS), National Oceanic and Atmospheric Administration (NOAA), Commerce.

ACTION: Temporary rule.

SUMMARY: Through this temporary rule, NMFS implements accountability measures (AMs) for the gray triggerfish commercial sector in the exclusive economic zone (EEZ) of the Gulf of Mexico (Gulf) for the 2019 fishing year. NMFS has determined that the 2018 commercial annual catch limit (ACL) for Gulf gray triggerfish was exceeded. Therefore, NMFS reduces the ACL and annual catch target (ACT) for the commercial sector for Gulf gray triggerfish on August 24, 2019, and these reductions will remain in effect through the end of the fishing year on December 31, 2019. These reductions are necessary to protect the Gulf gray triggerfish resource.

DATES: This temporary rule is effective from 12:01 a.m., local time, on August 24, 2019, until 12:01 a.m., local time, on January 1, 2020.

FOR FURTHER INFORMATION CONTACT: Kelli O'Donnell, NMFS Southeast Regional Office, telephone: 727-824-5305, email: kelli.odonnell@noaa.gov.

SUPPLEMENTARY INFORMATION: NMFS manages the Gulf reef fish fishery, which includes gray triggerfish, under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All gray triggerfish weights discussed in this temporary rule are in round weight.

The commercial ACL for Gulf gray triggerfish is 64,100 lb (29,075 kg) (50 CFR 622.41(b)(1)), and the commercial ACT (quota) is 60,900 lb (27,624 kg) (50 CFR 622.39(a)(1)(vi)). The regulations at 50 CFR 622.41(b)(1) require an overage of the commercial ACL be subtracted from the following year's ACL and ACT. Landings of gray triggerfish for the commercial sector in 2018 totaled 64,702 lb (29,348 kg); 602 lb (273 kg), which is 602 lb greater than the 2018 ACL of 64,100 lb (29,075 kg). Accordingly, this temporary rule reduces both the ACL and ACT for the commercial sector for Gulf gray triggerfish by the overage amount of 602 lb (273 kg). The revised commercial ACT (commercial quota) for gray triggerfish is 60,298 lb (27,351 kg), and the revised commercial ACL for gray triggerfish is 63,498 lb (28,802 kg). Both reductions in the ACL and ACT for the commercial sector for gray triggerfish are effective at 12:01 a.m., local time, on August 24, 2019, and they will remain in effect through the end of the fishing year on December 31, 2019.

Classification

The Regional Administrator for the NMFS Southeast Region has determined this temporary rule is necessary for the conservation and management of Gulf gray triggerfish and is consistent with the Magnuson-Stevens Act and other applicable laws.

This action is taken under 50 CFR 622.41(b)(1) and is exempt from review under Executive Order 12866.

These measures are exempt from the procedures of the Regulatory Flexibility Act because the temporary rule is issued without opportunity for prior notice and comment.

This action responds to the best scientific information available. The Assistant Administrator for NOAA Fisheries (AA) finds that the need to immediately implement this action to reduce the commercial ACL and ACT for gray triggerfish constitutes good cause to waive the requirements to provide prior notice and opportunity for public comment on this temporary rule pursuant to the authority set forth in 5 U.S.C. 553(b)(B), because such procedures are unnecessary and contrary to the public interest. Such procedures are unnecessary because the rule establishing the ACL and ACT revision provisions was subject to notice and comment, and all that remains is to notify the public of the reductions. Such procedures are contrary to the public interest because of the need to immediately implement this action to protect gray triggerfish and to provide advance notice of the reductions in ACL and ACT for the commercial sector.

For the aforementioned reasons, the AA also finds good cause to waive the 30-day delay in the effectiveness of this action under 5 U.S.C. 553(d)(3).

Authority: 16 U.S.C. 1801 et seq.

Dated: August 19, 2019.
Alan D. Risenhoover,
Director, Office of Sustainable Fisheries, National Marine Fisheries Service.

[FR Doc. 2019-18129 Filed 8-19-19; 4:15 pm]

BILLING CODE 3510-22-P